DEFENSE BASE CLOSURE AND REALIGNMENT COMMISSION

Notice of the Defense Base Closure and Realignment Commission—Change to the Date of a Previously Announced Open Meeting (New Orleans, LA); Correction

AGENCY: Defense Base Closure and Realignment Commission.

ACTION: Notice; Defense Base Closure and Realignment Commission—Change to the Date of a Previously Announced Open Meeting (New Orleans, LA); Correction.

SUMMARY: The Defense Base Closure and Realignment Commission published a document in the Federal Register of June 7, 2005, concerning an open meeting to receive comments from Federal, State and local government representatives and the general public on base realignment and closure actions in Florida, Louisiana and Mississippi that have been recommended by the Department of Defense (DoD). The date of this meeting has been changed to ensure that government officials and residents of the areas impacted by Hurricane Dennis would be able to participate fully.

The delay of this change notice resulted from a recent change to the meeting date due to weather. To avoid confusion, this notice of correction incorporates a previously announced change in location of the meeting. The Commission requests that the public consult the 2005 Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at (703) 699-2950 or 2708.

Correction

In the Federal Register of June 7, 2005, in FR Doc. 05-11237, on page 33128, in the second column, correct the SUMMARY and ADDRESS captions to read:

SUMMARY: Notice is hereby given that a delegation of Commissioners of the Defense Base Closure and Realignment Commission will hold an open meeting on July 22, 2005 from 9 a.m. to 3:30 p.m. at the Mahalia Jackson Theatre of the Performing Arts, 801 North Rampart Street, New Orleans, Louisiana 70116. The Commission requests that the public consult the 2005 Defense Base Closure and Realignment Commission Web site, http://www.brac.gov, for updates. The delegation will meet to receive comments from Federal, State and local government representatives and the general public on base realignment and closure actions in Florida, Louisiana and Mississippi that have been recommended by the Department of Defense (DoD). The purpose of this regional meeting is to allow communities experiencing a base closure or major realignment action (defined as loss of 300 civilian positions or 400 military and civilian positions) an opportunity to voice their concerns, counter-arguments, and opinions in a live public forum. This meeting will be open to the public, subject to the availability of space. Sign language interpretation will be provided. The delegation will not render decisions regarding the DoD recommendations at this meeting, but will gather information for later deliberations by the Commission as a whole.

ADDRESSES: Mahalia Jackson Theatre of the Performing Arts, 801 North Rampart Street, New Orleans, LA 70116.

Dated: July 18, 2005.
Jeannette Owings-Ballard,
Administrative Support Officer, Department of Defense.

[FR Doc. 05-14440 Filed 7-18-05; 3:22 pm]

BILLING CODE 5001-06-M